DEPARTMENT OF STATE

[Public Notice 11165]

30-Day Notice of Proposed Information Collection: Statement of Non-Receipt of a U.S. Passport

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to October 5, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

• Title of Information Collection: Statement of Non-Receipt of a U.S. Passport.

• OMB Control Number: 1405-0146.

• Type of Request: Revision of a Currently Approved Collection.

• Originating Office: Department of State, Bureau of Consular Affairs, Passport Services, Office of Program Management and Operational Support (CA/PPT/S/PMO/CR).

• Form Number: DS-86.

• Respondents: Individuals.

• Estimated Number of Respondents: 22,868.

• Estimated Number of Responses: 22,868.

• Average Time per Response: 15 minutes.

• Total Estimated Burden Time: 5,717 hours.

• Frequency: On Occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this notice are public record. Before including any detailed personal information, you should be aware that your comments as submitted, including your personal information, will be available for public review.

Abstract of Proposed Collection

The Statement of Non-receipt of a U.S. Passport, form DS-86, is used by the U.S. Department of State to collect information for the purpose of issuing a replacement passport to customers whose passports have been issued but who have not received their passport documents in the mail.

Methodology

The information collected on form DS-86 is used by the Department of State to help ensure that no person bears more than one valid or potentially valid U.S. passport book of the same type and/or passport card at any one time, except as authorized by the Department. The information on the form is also used to address passport fraud and misuse.

When needed, the Statement of Non-receipt of a U.S. Passport is either provided by the Department to the passport applicant or accessed online from the Department's website at www.eforms.state.gov or as a printable PDF at www.travel.state.gov.

Zachary Parker,
Director.

[FR Doc. 2020-19520 Filed 9-2-20; 8:45 am]

BILLING CODE 4710-06-P